DEPARTMENT OF TRANSPORTATION

Federal Aviation Administration

14 CFR Part 39

[Docket No. 2000-NM-212-AD; Amendment 39-12285; AD 2001-13-05]

RIN 2120-AA64

Airworthiness Directives; Raytheon Model BAe.125 Series 800A (C-29A and U-125 Military), 1000A, and 1000B Airplanes; Hawker 800 (U-125A Military) Airplanes; and Hawker 800XP and 1000 Series Airplanes

AGENCY: Federal Aviation Administration, DOT.

ACTION: Final rule.

SUMMARY: This amendment adopts a new airworthiness directive (AD), applicable to certain Raytheon Model BAe.125 series 800A (C-29A and U-125 military), 1000A, and 1000B airplanes; Hawker 800 (U-125A military) airplanes; and Hawker 800XP and 1000 series airplanes, that requires removal of existing clamps, bedding tapes, and rubber connecting sleeves at the ends of the turbine air discharge duct and the water separator, and replacement of the clamps and rubber connecting sleeves with new, improved components. This AD also requires, for certain airplanes, removal of aluminum bedding strips that are installed under the existing clamps. The actions specified by this AD are intended to prevent the turbine air discharge duct or water separator outlet duct from disconnecting from the cold air unit turbine or from the water separator, resulting in the loss of air supply to maintain adequate cabin pressure. Loss of adequate cabin pressure at high altitude would require emergency procedures, such as use of oxygen, auxiliary pressurization, or emergency descent.

DATES: Effective August 1, 2001.

The incorporation by reference of certain publications listed in the regulations is approved by the Director of the Federal Register as of August 1, 2001.

ADDRESSES: The service information referenced in this AD may be obtained from Raytheon Aircraft Company, Department 62, P.O. Box 85, Wichita, Kansas 67201-0085. This information may be examined at the Federal Aviation Administration (FAA), Transport Airplane Directorate, Rules Docket, 1601 Lind Avenue, SW., Renton, Washington; or at the FAA, Wichita Aircraft Certification Office, 1801 Airport Road, Room 100, Mid-Continent Airport, Wichita, Kansas; or at the Office of the Federal Register, 800 North Capitol Street, NW., suite 700, Washington, DC.

FOR FURTHER INFORMATION CONTACT: Paul C. DeVore, Aerospace Engineer, Systems and Propulsion Branch, ACE-116W, FAA, Wichita Aircraft Certification Office, 1801 Airport Road, Room 100, Mid-Continent Airport, Wichita, Kansas 67209; telephone (316) 946-4142; fax (316) 946-4407.

SUPPLEMENTARY INFORMATION: A proposal to amend part 39 of the Federal Aviation Regulations (14 CFR part 39) to include an airworthiness directive (AD) that is applicable to certain Raytheon Model BAe.125 series 800A (C-29A and U-125 military), 1000A, and 1000B airplanes; Hawker 800 (U-125A military) airplanes; and Hawker 800XP and 1000 series airplanes was published as a supplemental notice of proposed rulemaking (NPRM) in the Federal Register on February 14, 2001 (66 FR 10236). That action proposed to require removal of existing clamps, bedding tapes, and rubber connecting sleeves at the ends of the turbine air discharge duct and the water separator, and replacement of the clamps and rubber connecting sleeves with new, improved components. That action also proposed to include additional airplanes in the applicability and to require, for certain airplanes, removal of aluminum bedding strips that are installed under the existing clamps.

Comments

Interested persons have been afforded an opportunity to participate in the making of this amendment. No comments were submitted.

Conclusion

The FAA has determined that air safety and the public interest require the adoption of the rule as proposed.

Cost Impact

There are approximately 270 Model BAe.125 series 800A (C-29A and U-125 military), 1000A, and 1000B airplanes; Hawker 800 (U-125A military) airplanes; and Hawker 800XP and 1000 series airplanes of the affected design in the worldwide fleet.

The FAA estimates that 154 airplanes of U.S. registry will be affected by paragraph (a) of this AD. We estimate that the actions required by paragraph (a) of this AD will take approximately 8 work hours per airplane to accomplish, and that the average labor rate is $60 per work hour. Required parts will cost approximately $492 per airplane. Based on these figures, the cost impact of this AD on U.S. operators is estimated to be $149,688, or $972 per airplane.

The FAA estimates that an additional 36 airplanes of U.S. registry will be affected by paragraph (b) of this AD. We estimate that the actions required by paragraph (b) of this AD will take approximately 2 work hours per airplane to accomplish, and that the average labor rate is $60 per work hour. There is no cost for required parts. Based on these figures, the cost impact of paragraph (b) of this AD on U.S. operators is estimated to be $4,320, or $120 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-13-05 Raytheon Aircraft Company: Amendment 39-12285. Docket 2000-NM-212-AD.

Applicability: Model BAe.125 series 800A (C-29A and U-125 military), 1000A, and 1000B airplanes; Hawker 800 (U-125A military) airplanes, up to and including serial number 258406; and Hawker 800XP series airplanes, up to and including serial number 258483, and 1000 series airplanes; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent the turbine air discharge duct or water separator outlet duct from disconnecting from the cold air unit turbine or from the water separator, resulting in the loss of air supply to maintain adequate cabin pressure, accomplish the following:

Replacement

(a) For Model BAe.125 series 800A (C-29A and U-125 military) series airplanes; Hawker 800 (U-125A military) airplanes up to and including serial number 258406; and Hawker 800XP series airplanes up to and including serial number 258459: Remove the clamps, bedding tapes, and rubber connecting sleeves at the ends of the air turbine discharge duct and the water separator, and replace the clamps and rubber connecting sleeves with new, improved components, in accordance with the Accomplishment Instructions of Raytheon Service Bulletin SB 21-3377, Revision 1, dated July 2000, at the earliest of the times specified in paragraphs (a)(1), (a)(2), and (a)(3) of this AD.

(1) Prior to any extended over-water operation.

(2) Within the next 300 hours time-in-service after the effective date of this AD.

(3) Within the next six months after the effective date of this AD.

Note 2: An extended over-water operation is defined in 14 CFR 1.1 as “* * * an operation over water at a horizontal distance of more than 50 nautical miles from the nearest shoreline * * *.”

(b) For Model Hawker 800XP series airplanes having serial numbers 258460 through 258483; Model BAe.125 series 1000A/1000B airplanes; and Hawker 1000 series airplanes: Remove the aluminum bedding strips from the air conditioning duct sleeves attached to both ends of the turbine air discharge duct and at the outlet end of the water separator, in accordance with the Accomplishment Instructions of Raytheon Service Bulletin SB 21-3414, Revision 1, dated July 2000, at the earliest of the times specified in paragraphs (b)(1), (b)(2), and (b)(3) of this AD.

(1) Prior to any extended over-water operation.

(2) Within the next 300 hours time-in-service after the effective date of this AD.

(3) Within the next six months after the effective date of this AD.

Actions Accomplished Previously and Terminating Actions

(c) For certain airplanes, actions described in the original issuance of Raytheon Service Bulletin SB 21-3377 may have been accomplished prior to the effective date of this AD. On those airplanes, those actions are not required to be repeated, as allowed by the phrase, “unless accomplished previously.” However, any action described in Raytheon Service Bulletin SB 21-3377, Revision 1, dated July 2000; or Raytheon Service Bulletin SB 21-3414, Revision 1, dated July 2000, that has not been accomplished on those airplanes must be accomplished in accordance with this AD. Accomplishment of the actions specified in both Raytheon Service Bulletin SB 21-3377, Revision 1, dated July 2000; and Raytheon Service Bulletin SB 21-3414, Revision 1, dated July 2000, is considered to be terminating action for the requirements of this AD.

Alternative Methods of Compliance

(d) An alternative method of compliance or adjustment of the compliance time that provides an acceptable level of safety may be used if approved by the Manager, Wichita Aircraft Certification Office (ACO), FAA. Operators shall submit their requests through an appropriate FAA Principal Maintenance Inspector, who may add comments and then send it to the Manager, Wichita ACO.

Note 3: Information concerning the existence of approved alternative methods of compliance with this AD, if any, may be obtained from the Wichita ACO.

Special Flight Permits

(e) Special flight permits may be issued in accordance with sections 21.197 and 21.199 of the Federal Aviation Regulations (14 CFR 21.197 and 21.199) to operate the airplane to a location where the requirements of this AD can be accomplished.

Incorporation by Reference

(f) The actions shall be done in accordance with Raytheon Service Bulletin SB 21-3377, Revision 1, dated July 2000; and Raytheon Service Bulletin SB 21-3414, Revision 1, dated July 2000. This incorporation by reference was approved by the Director of the Federal Register in accordance with 5 U.S.C. 552(a) and 1 CFR part 51. Copies may be obtained from Raytheon Aircraft Company, Department 62, P.O. Box 85, Wichita, Kansas 67201-0085. Copies may be inspected at the FAA, Transport Airplane Directorate, 1601 Lind Avenue, SW., Renton, Washington; or at the FAA, Wichita Aircraft Certification Office, 1801 Airport Road, Room 100, Mid-Continent Airport, Wichita, Kansas; or at the Office of the Federal Register, 800 North Capitol Street, NW., suite 700, Washington, DC.

Effective Date

(g) This amendment becomes effective on August 1, 2001.

Issued in Renton, Washington, on June 19, 2001.
Kalene C. Yanamura,
Acting Manager,, Transport Airplane Directorate, Aircraft Certification Service.

[FR Doc. 01-15932 Filed 6-26-01; 8:45 am]

BILLING CODE 4910-13-P